DEPARTMENT OF HEALTH AND HUMAN SERVICES

Health Resources and Services Administration

Agency Information Collection Activities: Proposed Collection: Public Comment Request, Information Collection Request Title: The Maternal, Infant, and Early Childhood Home Visiting Program Pay for Outcomes Supplemental Information Request, 0906-XXXX, NEW

AGENCY: Health Resources and Services Administration (HRSA), Department of Health and Human Services.

ACTION: Notice.

SUMMARY: In compliance with the requirement for opportunity for public comment on proposed data collection projects of the Paperwork Reduction Act of 1995, HRSA announces plans to submit a Supplemental Information Request (SIR), described below, to the Office of Management and Budget (OMB). Prior to submitting the SIR to OMB, HRSA seeks comments from the public regarding the burden estimate, below, or any other aspect of the SIR.

DATES: Comments on this SIR should be received no later than September 8, 2020.

ADDRESSES: Submit your comments to paperwork@hrsa.gov or mail the HRSA Information Collection Clearance Officer, 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: Information Collection Request Title: The Maternal, Infant, and Early Childhood Home Visiting Program (MIECHV) Pay for Outcomes Supplemental Information Request, OMB No. 0906-XXXX, New.

Abstract: HRSA is requesting approval to collect information in response to a SIR, which will include eligible entities' plans for implementation and evaluation of Pay for Outcomes (PFO) initiatives to be applied for through the MIECHV Program. The Bipartisan Budget Act of 2018 (Pub. L. 115-123) added subsection (c)(3) to Section 511 of the Social Security Act, 42 U.S.C. 711. The new provision authorizes MIECHV Program funding recipients to use up to 25 percent of the funds awarded under subsection 511(c)(1) “to enable eligible entities to deliver services under early childhood home visitation programs” for “outcomes or success payments related to a pay for outcomes initiative that will not result in a reduction of funding for services delivered by the entity under a childhood home visitation program under this section while the eligible entity develops or operates such an initiative.” Subsection 511(j)(3)(B) further requires that “funds made available to an eligible entity under this section for a fiscal year (or portion of a fiscal year) for a pay for outcomes initiative shall remain available for expenditure by the eligible entity for not more than 10 years after the funds are so made available.”

Eligible entities may propose to use MIECHV funds for outcomes or success payments related to a PFO initiative in response to the upcoming fiscal year 2021 MIECHV Notice of Funding Opportunity and in succeeding fiscal years pending availability of future funds, and will submit their plans (henceforth referred to as a PFO SIR Response) in response to the forthcoming SIR.

Need and Proposed Use of the Information: Congress, through enactment of the Social Security Act, Title V, Section 511 (42 U.S.C. 711), as amended, established the MIECHV Program. The MIECHV Program is designed to: (1) Strengthen and improve the programs and activities carried out under Title V of the Social Security Act; (2) improve coordination of services for at risk communities; and (3) identify and provide comprehensive services to improve outcomes for families who reside in at risk communities. The MIECHV Program, authorized by section 511 of the Social Security Act, 42 U.S.C. 711, and administered by HRSA, in partnership with the Administration for Children and Families, supports voluntary, evidence-based home visiting services during pregnancy and to parents with young children up to kindergarten entry. States, territories, tribal entities, and in certain circumstances, nonprofit organizations are eligible to receive funding through MIECHV and have the flexibility, within the parameters of the authorizing statute, to tailor the program to serve the specific needs of their communities.

Section 50603 of the Bipartisan Budget Act of 2018 (Pub. L. 115-123) amended section 511 of the Social Security Act, and provides new authority for MIECHV awardees to use up to 25 percent of MIECHV grant funds awarded under section 511(c) for outcomes or success payments related to a PFO initiative. HRSA considers PFO initiatives to be an innovative approach to funding home visiting service delivery, which may result in social benefit, as well as cost savings or cost avoidance to the public sector.

In response to the forthcoming SIR, MIECHV awardees planning to use MIECHV grant funds for outcomes or success payments related to a PFO initiative will be required to submit a PFO SIR Response outlining how their plans will meet all of the applicable statutory requirements and identifying what specific MIECHV funds (e.g., fiscal year 2021 formula funding) they propose to use to (1) develop and implement their PFO initiative; and (2) make PFO outcomes or success payments based on the planned PFO initiative.

Regarding a PFO initiative, the MIECHV authorizing statute requires the following:

(1) A PFO initiative may not result in a reduction of funding for services delivered by the entity under a childhood home visitation program under this section while the eligible entity develops or operates such an initiative (section 711(c)(3)); and

(2) The PFO initiative for which outcome or success payments may be made must include:

(a) A feasibility study that describes how the proposed intervention is based on evidence of effectiveness;

(b) A rigorous, third-party evaluation that uses experimental or quasi-experimental design or other research methodologies that allow for the strongest possible causal inferences to determine whether the initiative has met its proposed outcomes as a result of implementation;

(c) An annual, publicly available report on the progress of the initiative; and

(d) A requirement that payments are made to the recipient of the grant, contract, or cooperative agreement only when agreed upon outcomes are achieved, excluding payments made to a third party conducting the evaluation.

See 42 U.S.C. 711(k)(4).

The forthcoming SIR will provide further instructions to awardees in proposing a PFO initiative and submitting the required information to HRSA. Awardees are not required to propose or implement a PFO initiative, but if they wish to do so, they must submit a PFO SIR Response describing how their PFO initiative will meet all of the applicable statutory requirements. HRSA will use the information collected through the PFO SIR Response to ensure that MIECHV awardees proposals to use grant funds for PFO initiatives meet statutory requirements and to provide technical assistance to awardees. The implementation of a PFO initiative is not intended to disrupt current services or negatively impact communities that have benefited from home visiting programs and must not result in a reduction of funding for home visiting services.

Likely Respondents: MIECHV Program awardees that are states, territories, and, where applicable, nonprofit organizations providing home visiting services within states.

Burden Statement: Burden in this context means the time expended by persons to generate, maintain, retain, disclose, or provide the information requested. This includes the time needed to review instructions and supporting materials; to collect and analyze data and information to develop the PFO SIR Response; engage with stakeholders and coordinate with state level partners; and to draft and submit the PFO SIR Response. The table below summarizes the total annual burden hours estimated for this SIR.

Total Estimated Annualized Burden Hours
Instrument | Number of respondents | Number of responses per respondent | Total responses | Average burden hours per response | Total burden hours
MIECHV PAY FOR OUTCOMES SIR | 15 | 1 | 15 | 92 | 1,380
Total | 15 |  | 15 |  | 1,380

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-14658 Filed 7-7-20; 8:45 am]

BILLING CODE 4165-15-P